ENVIRONMENTAL PROTECTION AGENCY

[EPA-HQ-OPP-2011-0746; FRL-9331-4]

Pyrethrins/Pyrethroid Cumulative Risk Assessment; Extension of Comment Period

AGENCY: Environmental Protection Agency (EPA).

ACTION: Notice; extension of comment period.

SUMMARY: EPA issued a notice in the Federal Register of November 9, 2011, concerning the availability of EPA's cumulative risk assessment for the naturally occurring pyrethrins and synthetic pyrethroid pesticides (often collectively called “the pyrethroids”) and opened a public comment period on this document and other supporting documents. This notice extends the comment period for 30 days, from January 9, 2012 to February 8, 2012.

DATES: Comments, identified by docket identification (ID) number EPA-HQ-OPP-2011-0746, must be received on or before February 8, 2012.

ADDRESSES: Follow the detailed instructions as provided under ADDRESSES in the Federal Register document of November 9, 2011.

FOR FURTHER INFORMATION CONTACT: Dana L. Friedman, Pesticide Re-evaluation Division, Office of Pesticide Programs, Environmental Protection Agency, 1200 Pennsylvania Ave. NW., Washington, DC 20460-0001; telephone number: (703) 347-8827; email address: friedman.dana@epa.gov.

SUPPLEMENTARY INFORMATION: This notice extends the public comment period established in the Federal Register of November 9, 2011 (76 FR 69726) (FRL-8888-9). In that notice, the Agency announced the availability of EPA's cumulative risk assessment for the pyrethroids. Based on this assessment, the EPA concluded that the cumulative risks from existing pyrethroid uses are below the Agency's level of concern. Because this cumulative risk assessment uses a number of very conservative assumptions, EPA provided an opportunity, through that notice, for interested parties to provide comments and input on any additional information that may be used to refine the very conservative nature of the pyrethroid cumulative risk assessment.

The Agency has received two requests to extend the comment period based on the complexity of the issue. The submitters are Beyond Pesticides and a member of the public. EPA is hereby extending the comment period, which was set to end on January 9, 2012, to February 8, 2012.

To submit comments, or access the docket, please follow the detailed instructions as provided under ADDRESSES in the November 9, 2011 Federal Register document. If you have questions, consult the person listed under FOR FURTHER INFORMATION CONTACT.

List of Subjects

Environmental protection, Cumulative Risk Assessment, Pesticides and pests, Pyrethrins and Pyrethroids.

Dated: December 21, 2011.
Richard P. Keigwin, Jr.,
Director, Pesticide Re-evaluation Division, Office of Pesticide Programs.

[FR Doc. 2011-33437 Filed 12-29-11; 8:45 am]

BILLING CODE 6560-50-P